Proclamation 7526 of March 2, 2002

Irish-American Heritage Month, 2002

By the President of the United States of America

A Proclamation

America has been shaped by the principles of liberty and freedom, guided by the pursuit of justice, and enriched by the diversity of its people. Irish Americans have been an essential part of this development, greatly contributing to our Nation's progress and prosperity.

Our country's citizens come from diverse backgrounds and cultures, which has enabled us to realize the vision embodied in our first national motto: “E Pluribus Unum,” meaning “Out of many, one.” Our forbears discovered the value inherent in this ideal, building a Nation where all people can live free, be equal under the law, and find opportunity for success in our free-enterprise system. From all points on earth, people of different races, faiths, and ethnicities came to this land to become Americans and thus heirs and stewards of the Founders' vision. This convergence of cultures contributed to the rich fabric of our Nation, uniquely threading together many divergent ideas, tastes, and traditions. Today, we enjoy a society shaped by this history, one Nation under one flag. Our Nation's response to the terrible events of September 11 demonstrated vividly the reality of the unity and resolve of our diverse people.

Since our Nation's founding, millions of Irish have emigrated to this country to embrace the vibrant promise of new opportunity that America offers. Some came to America seeking the freedom to worship as they pleased. Others came in the wake of the devastating Irish potato famine of 1845-1849, which caused 1 million deaths in Ireland and led nearly 1.5 million Irish to emigrate. And the many successes of the Irish immigrants in America proved to be a continuing draw to their friends and family who remained in Ireland. The Irish brought with them a spirit of life and an ethic of work that helped to enliven our culture and enabled them to prosper in their new land.

George Washington's Continental Army had over 20 generals of Irish descent. Americans proudly claiming Irish heritage have held positions of national leadership, including Presidents George Washington, Andrew Jackson, John F. Kennedy, and Ronald Reagan and Supreme Court Justices William J. Brennan, Jr., and Sandra Day O'Connor. And numerous Irish Americans have enjoyed great success in the arts and entertainment field, including Buster Keaton, Stephen Foster, and F. Scott Fitzgerald.

Throughout our history, America has been greatly blessed by the innumerable contributions of Irish Americans. This month we celebrate these great people and the heritage of their beautiful ancestral homeland, Ireland.

NOW, THEREFORE, I, GEORGE W. BUSH, President of the United States of America, by virtue of the authority vested in me by the Constitution and laws of the United States, do hereby proclaim March 2002 as Irish-American Heritage Month. I call upon all Americans to observe this month by learning about and commemorating the contributions of Irish Americans.

IN WITNESS WHEREOF, I have hereunto set my hand this second day of March, in the year of our Lord two thousand two, and of the Independence of the United States of America the two hundred and twenty-sixth.

B

[FR Doc. 02-5506

Filed 3-5-02; 8:45 am]

Billing code 3195-01-P